DEPARTMENT OF TRANSPORTATION

Surface Transportation Board

[STB Finance Docket No. 33896]

Ohio Southern Railroad, Inc.—Acquisition and Operation Exemption—Glouster Coal Company, Glouster, OH

Ohio Southern Railroad, Incoporated (OSRR), a Class III carrier, has filed a verified notice of exemption under 49 CFR 1150.41 to acquire by lease from Glouster Coal Company (Glouster Coal) and operate approximately 0.6 miles of existing right-of-way and industrial trackage (milepost 56.7-milepost 57.3), near Glouster, OH (line).¹

¹ According to the verified notice of exemption, the trackage is presently exempt industrial track within the meaning of 49 U.S.C. 10906; it is located entirely on property owned by Glouster Coal and was built and intended to be used for the sole purpose of enabling Glouster Coal to ship coal from its Buckingham Mine.

The transaction was expected to be consummated promptly following the effective date of the exemption. The earliest the transaction could be consummated was July 7, 2000, 7 days after the exemption was filed.

The transaction is related to Ohio Southern Railroad, Incorporated—Acquisition and Operation Exemption—Pennsylvania Lines LLC and Norfolk Southern Railway Company, STB Finance Docket No. 33895 (STB served July 18, 2000), and Ohio Southern Railroad, Incorporated—Trackage Rights Exemption—Pennsylvania Lines LLC and Norfolk Southern Railway Company, STB Finance Docket No. 33902 (STB served July 18, 2000) to exempt OSRR's extension of its lines from Wilbren, OH, to New Lexington, OH, and OSRR's trackage rights over Norfolk Southern Railway Company's (NSR) West Secondary line from New Lexington to a point near Glouster. Upon consummation of these transactions OSSR will be able to provide coal transportation service in conjunction with NSR from the Buckingham Mine to Glouster Coal's customers located on or accessed via the lines of OSRR.²

² On July 5, 2000, NSR filed a verified notice of exemption under the Board's class exemption procedures at 49 CFR 1180.2(d)(7). The notice covered an agreement between Pennsylvania Lines, LLC, NSR and OSRR for the grant by OSRR to NSR of overhead and local trackage rights over the line. The trackage rights will enable NSR to initiate new operations over the line to serve the existing customer and to provide a competitive alternative to OSRR for any new customers that may choose to locate on the line. See Norfolk Southern Railway Company—Trackage Rights Exemption—Ohio Southern Railroad, Incorporated in Athens County, OH, STB Finance Docket No. 33899 (STB served July 18, 2000).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33896, must be filed with the Surface Transportation Board, Office of the Secretary, Case Control Unit, 1925 K Street, NW, Washington, DC 20423-0001. In addition, a copy of each pleading must be served on Kelvin J. Dowd, Esq., Slover & Loftus, 1224 Seventeenth Street, NW, Washington, DC 20036.

Board decisions and notices are available on our website at “WWW.STB.DOT.GOV.”

Decided: July 11, 2000.
By the Board, Joseph H. Dettmar, Acting Director, Office of Proceedings.
Vernon A. Williams,
Secretary.

[FR Doc. 00-18044 Filed 7-17-00; 8:45 am]

BILLING CODE 4915-00-P